DEPARTMENT OF AGRICULTURE

Forest Service

Six Rivers National Forest, Gasquet Ranger District, California, The Smith River National Recreation Area Restoration and Motorized Travel Management Project

AGENCY: Forest Service, USDA.

ACTION: Notice of intent to prepare an environmental impact statement.

SUMMARY: The Six Rivers National Forest proposes to make limited changes to the National Forest Transportation System (NFTS) on the Gasquet Ranger District in order to: provide motorized access to dispersed recreation opportunities; provide a diversity of motorized recreation opportunities; to provide for administrative needs, and; to reduce ecological and cultural resource risk and maintenance costs. In addition, inventoried unauthorized routes (UAR) that pose a risk to ecological resources will be restored to reduce risk to resources.

This project responds to the Travel Management Rule, Subpart B (36 CFR 212.52), which requires the public be allowed to participate in the revision of designations, and 36 CFR 212.54, which requires the Forest to coordinate with other government organizations in the revision of designation of the NFTS. Changes to the NFTS resulting from this project will be reflected in an updated Motor Vehicle Use Map.

DATES: Comments must be received on or before June 4, 2012. The draft environmental impact statement is expected in October 2012 and the final environmental impact statement is expected in March 2013.

ADDRESSES: Send written comments to Six Rivers National Forest, Supervisor's Office, 1330 Bayshore Way, Eureka, CA 95501. Comments may also be sent via facsimile to 707-441-3502, or via email to comments-pacificsouthwest-six-rivers@fs.fed.us. Please insure that “Smith River NRA Restoration and Motorized Travel Management” occurs in the subject line.

FOR FURTHER INFORMATION CONTACT: Christy Prescott, Team Leader. Phone: 707-442-1721, Email: comments-pacificsouthwest-six-rivers@fs.fed.us. Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the project is to make limited changes to the NFTS that enhance motorized recreation opportunities, dispersed recreation opportunities, and administrative access, while minimizing ecological and cultural resource risk. In addition, this project restores terrestrial and aquatic habitats impacted by unauthorized routes.

Proposed Action

The Six Rivers National Forest proposes to make limited changes to the National Forest Transportation System (NFTS) in order to: provide motorized access to dispersed recreation opportunities (camping, hunting, fishing, hiking, horseback riding, etc.); provide a diversity of motorized recreation opportunities; to provide for administrative needs, and; to reduce ecological and cultural resource risk and maintenance costs. In addition, inventoried unauthorized routes (UAR) that pose a risk to ecological resources will be restored to reduce risk to resources.

The Six Rivers National Forest (SRNF) proposes the following actions: 1)The addition of 28 unauthorized routes as roads, totaling 16 miles, to the current National Forest Transportation System (NFTS); 2) The addition of 45 unauthorized routes as motorized trails to the NFTS, totaling 44 miles; 3) The seasonal gate closure on 2 roads and 5 motorized trails, totaling 13 miles; 4) The mixed-use of 1 road (17N49), totaling 4 miles; 5) The decommissioning of 118 NFTS roads, totaling 57 miles, and; 6) The restoration of 173 UARs totaling 80 miles.

The project encompasses the Smith River NRA and Gasquet Ranger District, exclusive of lands within congressionally designated Wilderness Areas, and is referred to collectively as the Smith River NRA. This decision will result in an update to the Motor Vehicle Use Map.

State, County, and Smith River NRA OML 3, 4, and 5 roads are all main access roads on the NRA that accommodate passenger cars, and are not being considered in this analysis, with the exception of 17N49 which is an OML 3 road that is being proposed for mixed-use. Also not considered in this analysis are roads that were closed under previous NEPA decisions. No new construction would occur under this proposal, meaning lands previously undisturbed will not be considered for additions to the NFTS as roads or motorized trails.

Responsible Official

The Forest Supervisor of the Six Rivers National Forest is the Responsible Official.

Nature of Decision To Be Made

The Responsible Official will decide whether to adopt and implement the proposed action, an alternative to the proposed action, or take no action.

Preliminary Issues

There are five areas of concern that have been identified through a previous public scoping effort. The public has expressed concern in how the project will affect motorized recreation, dispersed recreation, and economic values associated with travel management. Designation of unauthorized routes in Inventoried Roadless Areas (IRA) has also been identified as an issue of public interest on this project. There is public concern over how the project will affect the spread of Port Orford-cedar root disease. There is public concern over the potential health risks regarding the designation of new roads and motorized trails that overlay lands that may contain Naturally Occuring Asbestos. There is public concern regarding the projects potential effects on Federally listed endangered plant species and Forest Service Sensitive plant species.

Permits or Licenses Required

Prior to implementation of the decision, the Forest will require a waiver from the North Coast Regional Water Quality Control Board. The California Highway Patrol must approve all mixed-use designations.

Scoping Process

This notice of intent initiates the scoping process, which guides the development of the environmental impact statement. A public meeting will be held in Crescent City on May 9, 2012 to discuss the proposed action, and answer any questions the public may have regarding the project. It is important that reviewers provide their comments at such times and in such manner that they are useful to the agency's preparation of the environmental impact statement. Therefore, comments should be provided prior to the close of the comment period and should clearly articulate the reviewer's concerns and contentions. Comments received in response to this solicitation, including names and addresses of those who comment, will be part of the public record for this proposed action.

Dated: April 2, 2012.
Tyrone Kelley,
Forest Supervisor.

[FR Doc. 2012-8842 Filed 4-19-12; 8:45 am]

BILLING CODE 3410-11-P